DEPARTMENT OF COMMERCE

International Trade Administration

[A-201-830]

Carbon and Certain Alloy Steel Wire Rod From Mexico: Notice of Partial Rescission of Antidumping Duty Administrative Review

AGENCY: Import Administration, International Trade Administration, Department of Commerce.

DATES: Effective Date: March 24, 2011.

FOR FURTHER INFORMATION CONTACT: Jolanta Lawska, AD/CVD Operations, Office 3, Import Administration, International Trade Administration, U.S. Department of Commerce, 14th Street and Constitution Avenue, NW., Washington, DC 20230; telephone: (202) 482-8362.

SUPPLEMENTARY INFORMATION:

Background

On October 1, 2010, the Department of Commerce (the Department) published a notice of opportunity to request an administrative review of the antidumping duty order on carbon and certain alloy steel wire rod from Mexico. See Antidumping or Countervailing Duty Order, Finding, or Suspended Investigation; Opportunity To Request Administrative Review, 75 FR 60733 (October 1, 2010). On October 29, 2010, in accordance with 19 CFR 351.213(b), the Department received a timely request from Nucor Corporation (Nucor) and Cascade Steel Rolling Mills, Inc. (Cascade Steel), domestic producers of carbon wire rod, to conduct an administrative review of the sales of Aceros San Luis S.A. de C.V. (Aceros), Arcelor Mittal Las Truchas, S.A. de C.V. (AMLT), DeAcero de C.V. (DeAcero), Siderurgica Lazaro Cardenas Las Truchas S.A. de C.V. (Sicartsa), and Talleres y Aceros S.A. de C.V. (Talleres). On October 29, 2010, in accordance with 19 CFR 351.213(b), the Department also received a timely request from ArcelorMittal USA, Inc. (ArcelorMittal),¹ Gerdau Ameristeel US Inc. (Gerdau), and Evraz Rocky Mountain Steel (Evraz), domestic producers of carbon and certain alloy steel wire rod, to conduct an administrative review of the sales of AMLT, Sicartsa, Ternium Mexico SA. de C.V. (Ternium), DeAcero, Aceros, Talleres, and Altos Hornos de Mexico S.A. de C.V. (Altos Hornos). On November 1, 2010, AMLT, a Mexican producer of the subject merchandise requested an administrative review of its exports subject to the antidumping order referenced above.

¹ ArcelorMittal did not join in the request for a review of AMLT or Sicartsa. On February 28, 2011, ArcelorMittal withdrew its participation in this administrative review.

On November 29, 2010, the Department published in the Federal Register the notice of initiation of this antidumping duty administrative review with respect to the following companies for the period October 1, 2009, through September 30, 2010: Aceros, Altos Hornos, AMLT, DeAcero, Sicartsa, Talleres, and Ternium. See Initiation of Antidumping and Countervailing Duty Administrative Reviews, 75 FR 73036 (November 29, 2010) (Initiation Notice).

In the Initiation Notice, the Department stated that in the event the Department limits the number of respondents for individual examination, it intended to select respondents based on data from U.S. Customs and Border Protection (CBP). See Initiation Notice. Due to the large number of companies for which a review was requested, the Department performed a query of the CBP database. See November 29, 2010, Memorandum to the File “Placement of Query Results of Customs and Border Patrol (CBP) Database on Record of Review,” (November 29, 2010). We released the results to interested parties.

On January 10, 2011, the Department announced its intention to limit the number of respondents for individual examination, based on data from CBP. See Memorandum from Eric B. Greynolds, Program Manager, to Melissa Skinner, Director, Operations, Office 3, entitled “Respondent Selection,” dated January 10, 2011. The Department selected AMLT and Sicartsa as mandatory respondents in this review.²

² We are currently in the process of determining whether AMLT is the successor-in-interest to Sicartsa in an on-going antidumping duty changed circumstances review.

Scope of the Order

The merchandise subject to this order is certain hot-rolled products of carbon steel and alloy steel, in coils, of approximately round cross section, 5.00 mm or more, but less than 19.00 mm, in solid cross-sectional diameter.

Specifically excluded are steel products possessing the above-noted physical characteristics and meeting the Harmonized Tariff Schedule of the United States (HTSUS) definitions for (a) stainless steel; (b) tool steel; (c) high nickel steel; (d) ball bearing steel; and (e) concrete reinforcing bars and rods. Also excluded are (f) free machining steel products (i.e., products that contain by weight one or more of the following elements: 0.03 percent or more of lead, 0.05 percent or more of bismuth, 0.08 percent or more of sulfur, more than 0.04 percent of phosphorus, more than 0.05 percent of selenium, or more than 0.01 percent of tellurium).

Also excluded from the scope are 1080 grade tire cord quality wire rod and 1080 grade tire bead quality wire rod. This grade 1080 tire cord quality rod is defined as: (i) Grade 1080 tire cord quality wire rod measuring 5.0 mm or more but not more than 6.0 mm in cross-sectional diameter; (ii) with an average partial decarburization of no more than 70 microns in depth (maximum individual 200 microns); (iii) having no non-deformable inclusions greater than 20 microns and no deformable inclusions greater than 35 microns; (iv) having a carbon segregation per heat average of 3.0 or better using European Method NFA 04-114; (v) having a surface quality with no surface defects of a length greater than 0.15 mm; (vi) capable of being drawn to a diameter of 0.30 mm or less with 3 or fewer breaks per ton, and (vii) containing by weight the following elements in the proportions shown: (1) 0.78 percent or more of carbon, (2) less than 0.01 percent of aluminum, (3) 0.040 percent or less, in the aggregate, of phosphorus and sulfur, (4) 0.006 percent or less of nitrogen, and (5) not more than 0.15 percent, in the aggregate, of copper, nickel and chromium.

This grade 1080 tire bead quality rod is defined as: (i) Grade 1080 tire bead quality wire rod measuring 5.5 mm or more but not more than 7.0 mm in cross-sectional diameter; (ii) with an average partial decarburization of no more than 70 microns in depth (maximum individual 200 microns); (iii) having no non-deformable inclusions greater than 20 microns and no deformable inclusions greater than 35 microns; (iv) having a carbon segregation per heat average of 3.0 or better using European Method NFA 04-114; (v) having a surface quality with no surface defects of a length greater than 0.2 mm; (vi) capable of being drawn to a diameter of 0.78 mm or larger with 0.5 or fewer breaks per ton; and (vii) containing by weight the following elements in the proportions shown: (1) 0.78 percent or more of carbon, (2) less than 0.01 percent of soluble aluminum, (3) 0.040 percent or less, in the aggregate, of phosphorus and sulfur, (4) 0.008 percent or less of nitrogen, and (5) either not more than 0.15 percent, in the aggregate, of copper, nickel and chromium (if chromium is not specified), or not more than 0.10 percent in the aggregate of copper and nickel and a chromium content of 0.24 to 0.30 percent (if chromium is specified).

For purposes of the grade 1080 tire cord quality wire rod and the grade 1080 tire bead quality wire rod, an inclusion will be considered to be deformable if its ratio of length (measured along the axis—that is, the direction of rolling—of the rod) over thickness (measured on the same inclusion in a direction perpendicular to the axis of the rod) is equal to or greater than three. The size of an inclusion for purposes of the 20 microns and 35 microns limitations is the measurement of the largest dimension observed on a longitudinal section measured in a direction perpendicular to the axis of the rod. This measurement methodology applies only to inclusions on certain grade 1080 tire cord quality wire rod and certain grade 1080 tire bead quality wire rod that are entered, or withdrawn from warehouse, for consumption on or after July 24, 2003.

The designation of the products as “tire cord quality” or “tire bead quality” indicates the acceptability of the product for use in the production of tire cord, tire bead, or wire for use in other rubber reinforcement applications such as hose wire. These quality designations are presumed to indicate that these products are being used in tire cord, tire bead, and other rubber reinforcement applications, and such merchandise intended for the tire cord, tire bead, or other rubber reinforcement applications is not included in the scope. However, should the petitioners or other interested parties provide a reasonable basis to believe or suspect that there exists a pattern of importation of such products for other than those applications, end-use certification for the importation of such products may be required. Under such circumstances, only the importers of record would normally be required to certify the end use of the imported merchandise.

All products meeting the physical description of subject merchandise that are not specifically excluded are included in this scope.

The products subject to this order are currently classifiable under subheadings 7213.91.3011, 7213.91.3015, 7213.91.3092, 7213.91.4500, 7213.91.6000, 7213.99.0030, 7213.99.0090, 7227.20.0000, 7227.90.6010, and 7227.90.6080 of the HTSUS. Although the HTSUS subheadings are provided for convenience and customs purposes, the written description of the scope of this proceeding is dispositive.³

³ Effective January 1, 2006, CBP reclassified certain HTSUS numbers related to the subject merchandise. See http://hotdocs.usitc.gov/tariff chapters current/toc.html.

Partial Rescission of the 2009-2010 Administrative Review

If a party that requested a review withdraws the request within 90 days of the date of publication of notice of initiation of the requested review, the Secretary will rescind the review pursuant to 19 CFR 351.213(d)(1). On February 24, 2011, Nucor and Cascade Steel withdrew their request for antidumping duty administrative review for the above referenced order with respect to the following Mexican producers: DeAcero, Aceros, and Talleres. On February 25, 2011, ArcelorMittal, Gerdau, and Evraz, withdrew their request with respect to the following Mexican producers: DeAcero, Aceros, Talleres, Ternium, and Altos Hornos. Both requests for withdrawal were submitted within 90 days of the initiation notice, and are therefore timely, pursuant to 19 CFR 351.213(d)(1). No other party requested a review of any of these five companies.

Therefore, in accordance with 19 CFR 351.213(d)(1), and consistent with our practice, the Department is rescinding this review of the antidumping duty order on carbon and certain alloy steel wire rod from Mexico, in part, with respect to DeAcero, Aceros, Talleres, Ternium, and Altos Hornos. This administrative review will continue with respect to AMLT and Sicartsa.

Assessment

The Department will instruct CBP to assess antidumping duties on all appropriate entries. For the companies for which this review is rescinded, antidumping duties shall be assessed at rates equal to the cash deposit of estimated antidumping duties required at the time of entry, or withdrawal from warehouse, for consumption, during the period October 1, 2009, through September 30, 2010, in accordance with 19 CFR 351.212(c)(1)(i).

The Department intends to issue appropriate assessment instructions directly to CBP 15 days after publication of this notice.

Notification to Importers

This notice serves as a reminder to importers of their responsibility under 19 CFR 351.402(f)(2) to file a certificate regarding the reimbursement of antidumping and/or countervailing duties prior to liquidation of the relevant entries during this review period. Failure to comply with this requirement could result in the Secretary's presumption that reimbursement of antidumping and/or countervailing duties occurred and the subsequent assessment of doubled antidumping duties.

Notification Regarding APOs

This notice also serves as a reminder to parties subject to administrative protective orders (APOs) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: March 17, 2011.
Christian Marsh,
Deputy Assistant Secretary for Antidumping and Countervailing Duty Operations.

[FR Doc. 2011-6992 Filed 3-23-11; 8:45 am]

BILLING CODE 3510-DS-P